JUDICIAL CONFERENCE OF THE UNITED STATES

Advisory Committees on Appellate, Bankruptcy, Civil, and Criminal Rules; Hearings of the Judicial Conference

AGENCY: Judicial Conference of the United States, Advisory Committees on the Federal Rules of Appellate, Bankruptcy, Civil, and Criminal Procedure.

ACTION: Notice of proposed amendments and open hearings.

SUMMARY: The Advisory Committees on Appellate, Bankruptcy, Civil, and Criminal Rules have proposed amendments to the following rules:

Appellate Rule: 25

Bankruptcy Rules: Restyled Rules Parts I and II; Rules 1007, 1020, 2009, 2012, 2015, 3002, 3010, 3011, 3014, 3016, 3017.1, 3017.2 (new), 3018, 3019, 5005, 7004, and 8023; and Official Forms 101, 122B, 201, 309E-1, 309E-2, 309F-1, 309F-2, 314, 315, and 425A

Civil Rules: Rule 12 and Supplemental Rules for Social Security Review Actions Under 42 U.S.C. 405(g)

Criminal Rule: 16

The text of the proposed rules and the accompanying committee notes, along with the related forms, will be posted by August 14, 2020, on the Judiciary's website at: http://www.uscourts.gov/rules-policies/proposed-amendments-published-public-comment.

All written comments and suggestions with respect to the proposed amendments may be submitted on or after the opening of the period for public comment on August 14, 2020, but no later than February 16, 2021. Written comments must be submitted electronically, following the instructions provided on the website. All comments submitted will be posted on the website and available to the public.

Remote public hearings via video or telephone conference are scheduled on the proposed amendments as follows:

• Appellate Rules on October 19, 2020 and January 4, 2021;

• Bankruptcy Rules on January 7, 2021 and January 29, 2021;

• Civil Rules on November 10, 2020 and January 22, 2021; and

• Criminal Rules on November 4, 2020 and January 25, 2021.

Those wishing to testify must contact the Secretary of the Committee on Rules of Practice and Procedure by email at: RulesCommittee_Secretary@ao.uscourts.gov, at least 30 days before the hearing.

FOR FURTHER INFORMATION CONTACT: Rebecca A. Womeldorf, Secretary, Committee on Rules of Practice and Procedure of the Judicial Conference of the United States, Thurgood Marshall Federal Judiciary Building, One Columbus Circle NE, Suite 7-300, Washington, DC 20544, Telephone (202) 502-1820, RulesCommittee_Secretary@ao.uscourts.gov.

Authority: 28 U.S.C. 2073.

Dated: August 5, 2020.
Shelly L. Cox,
Rules Committee Staff.

[FR Doc. 2020-17458 Filed 8-10-20; 8:45 am]

BILLING CODE 2210-55-P